DEPARTMENT OF COMMERCE

National Oceanic and Atmospheric Administration

50 CFR Part 679

[Docket No. 250331-0057; RTID 0648-XE831]

Fisheries of the Exclusive Economic Zone Off Alaska; Recreational Fishing for Chinook Salmon in the Cook Inlet Exclusive Economic Zone Area

AGENCY: National Marine Fisheries Service (NMFS), National Oceanic and Atmospheric Administration (NOAA), Commerce.

ACTION: Temporary rule; closure.

SUMMARY: NMFS is prohibiting recreational fishing for Chinook salmon in the Cook Inlet exclusive economic zone (EEZ) Area. This action is necessary for the conservation of Cook Inlet Chinook salmon stocks that continue to be in a low state of abundance as assessed in the NMFS 2025 stock assessment and fisheries evaluation (SAFE) report and the 2025 State of Alaska forecasts of very low run strength.

DATES: Effective 0001 hours, Alaska local time (A.l.t.), May 1, 2025, through 2400 hours, A.l.t., August 15, 2025.

FOR FURTHER INFORMATION CONTACT: Adam Zaleski, 907-206-5802.

SUPPLEMENTARY INFORMATION: NMFS manages the Cook Inlet EEZ Area according to the Fishery Management Plan for Salmon Fisheries in the EEZ off Alaska (Salmon FMP). The intended effect of this action is to conserve and manage the salmon resources in the Cook Inlet EEZ Area in accordance with the Magnuson-Stevens Fishery Conservation and Management Act (Magnuson-Stevens Act). Regulations governing fishing by U.S. vessels in accordance with the Salmon FMP appear at subpart H of 50 CFR part 600 and 50 CFR part 679.

In accordance with 50 CFR 679.118(c)(1)(ii), the Regional Administrator has determined it is necessary to close Chinook salmon recreational fishing for conservation and management purposes and is therefore prohibiting recreational fishing for Chinook salmon in the Cook Inlet EEZ Area. In making this determination, the Regional Administrator has considered the following factors: the low proposed 2025 Chinook salmon acceptable biological catch (ABC) in the Cook Inlet EEZ Area (proposed ABC of 261 Chinook salmon; 90 FR 14771, April 4, 2025); anticipated harvest rates, expected mortality, and the potential number of participants in the commercial and recreational fisheries in the Cook Inlet EEZ Area; and the State of Alaska's 2025 prediction of run sizes. Newly released 2025 Chinook salmon forecasts from the Alaska Department of Fish and Game (ADF&G) predict very low run sizes for Chinook salmon stocks in Cook Inlet, which is likely to negatively impact the achievement of spawning escapement targets and returns during future years. As such, ADF&G has issued closures of recreational fishing in State marine waters of Upper Cook Inlet from May 1 to August 15, 2025: https://www.adfg.alaska.gov/sf/EONR/index.cfm?ADFG=region.NR&Year=2025&NRID=3802. This action would prohibit recreational fishing for Chinook salmon in the Cook Inlet EEZ Area during the same time period (May 1 to August 15, 2025).

Classification

NMFS issues this action pursuant to section 305(d) of the Magnuson-Stevens Act. This action is authorized by 50 CFR 679.118(c)(1)(ii), which was issued pursuant to section 304(c) of the Magnuson-Stevens Act, and is necessary to carry out the Salmon FMP. This action is exempt from review under Executive Order 12866.

Pursuant to 5 U.S.C. 553(b)(B), there is good cause to waive prior notice and an opportunity for public comment on this action. Notice and comment would be impracticable and contrary to the public interest, as it would prevent NMFS from responding to the most recent information regarding the status of Cook Inlet Chinook salmon stocks in a timely fashion and would delay the closure of recreational fishing for Chinook salmon in the Cook Inlet EEZ Area. A delay of this closure could result in recreational harvest of Chinook salmon that is not supported by current stock levels, which would prevent the conservation and management objectives for the Cook Inlet EEZ Area salmon fishery. NMFS developed this action as quickly as possible based on the relevant information on stock levels for Chinook salmon, primarily NMFS's finalization of the SAFE report that informs NMFS's proposed 2025 ABC for Chinook salmon (90 FR 14771, April 4, 2025) and the State's release of 2025 Chinook salmon forecasts for Cook Inlet.

Under section 553(d) of the Administrative Procedure Act, an agency must delay the effective date of an action for 30 days after publication, unless the agency finds good cause to make the action effective sooner. Pursuant to 5 U.S.C. 553(d)(3), the NOAA Assistant Administrator for Fisheries has determined that good cause exists to shorten the 30-day delay in the effective date of this action and make this rule effective May 1, 2025. This finding is based upon the reasons provided above for waiver of prior notice and opportunity for public comment.

Authority: 16 U.S.C. 1801 et seq.

Dated: April 14, 2025.
Kelly Denit,
Director, Office of Sustainable Fisheries, National Marine Fisheries Service.

[FR Doc. 2025-06623 Filed 4-16-25; 8:45 am]

BILLING CODE 3510-22-P